DEPARTMENT OF JUSTICE

Notice of Lodging Proposed Consent Decree

In accordance with Departmental Policy, 28 CFR 50.7, notice is hereby given that a proposed Consent Decree in United States v. James F. Jerge, Jr., Case Number 1:17-cv-00428, was lodged with the United States District Court for the Western District of New York on May 17, 2017.

This proposed Consent Decree concerns a complaint filed by the United States against James F. Jerge, Jr., pursuant to Sections 301(a) and 404 of the Clean Water Act, 33 U.S.C. 1311(a) and 1344, to obtain injunctive relief from and impose civil penalties against the Defendant for violating the Clean Water Act by discharging pollutants without a permit into waters of the United States and failing to comply with the terms and conditions of a permit issued by the Department of the Army. The proposed Consent Decree resolves these allegations by requiring the Defendant to restore impacted areas, perform mitigation, and pay a civil penalty.

The Department of Justice will accept written comments relating to this proposed Consent Decree for thirty (30) days from the date of publication of this Notice. Please address comments to Amy N. Okereke, Assistant United States Attorney, United States Attorney's Office for the Western District of New York, 138 Delaware Avenue, Buffalo, NY 14202 and refer to United States v. James F. Jerge, Jr., DJ # 90-5-1-1-20429.

The proposed Consent Decree may be examined at the Clerk's Office, United States District Court for the Western District of New York, 2 Niagara Square, Buffalo, NY 14202. In addition, the proposed Consent Decree may be examined electronically at http://www.justice.gov/enrd/consent-decrees.

Cherie L. Rogers,
Assistant Section Chief, Environmental Defense Section, Environment and Natural Resources Division.

[FR Doc. 2017-10615 Filed 5-23-17; 8:45 am]

BILLING CODE 4410-15-P